DEPARTMENT OF JUSTICE

Drug Enforcement Administration

Complete Care Pharmacy, LLC; Decision and Order

I. Introduction

On April 2, 2025, the Drug Enforcement Administration (DEA or Government) issued an Order to Show Cause (OSC) to Complete Care Pharmacy, LLC, of Corrales, New Mexico (Registrant). Request for Final Agency Action (RFAA), Exhibit (RFAAX) 1, at 1, 6. The OSC proposed the revocation of Registrant's DEA Certificate of Registration, number FC4167121, alleging that its registration is inconsistent with the public interest. Id. at 1 (citing 21 U.S.C. 823(g)(1), 824(a)(4)). Specifically, the OSC alleged that Registrant's owner and pharmacist-in-charge (PIC) issued 26 controlled substance prescriptions when he no longer had state prescriptive authority and that Registrant, acting through its owner and PIC who had also written the prescriptions without authority, then filled these 26 prescriptions, even though it knew they were issued by a person who lacked prescriptive authority.

On June 2, 2025, the Government submitted an RFAA to the Administrator requesting that the Agency ¹ issue a default final order revoking Registrant's registration. RFAA, at 1, 4-5. After carefully reviewing the entire record and conducting the analysis as set forth in detail below, the Agency grants the Government's request for final agency action and revokes Registrant's registration. As a preliminary matter, this Decision addresses whether Registrant is in default and finds that it is. Thereafter, this Decision makes specific factual findings on the alleged violations as set forth in the OSC; specifically, the allegation that Registrant knowingly filled 26 illegitimate controlled substance prescriptions that were issued by a person who lacked prescriptive authority. Next, this Decision considers whether Registrant's registration is inconsistent with the public interest and finds that it is. Lastly, this Decision determines that the appropriate sanction is revocation of Registrant's registration.

¹ The Controlled Substances Act delegates authority to the Attorney General, who has delegated it to the Administrator of DEA (the Agency). 28 CFR 0.100.

II. Default Determination

The Government's RFAA included a declaration by a DEA Diversion Investigator (DI), in which DI declared under penalty of perjury that on April 15, 2025, she personally served a copy of the OSC on Mike Gallegos (Mr. Gallegos), Registrant's owner, operator, and PIC. RFAAX 2, at 1; see also RFAAX 1, at 3. The declaration states that Mr. Gallegos signed a copy of the OSC confirming receipt. RFAAX 2, at 2; see also RFAAX 2, Attachment A (copy of the signed OSC). Accordingly, due to personal service of the OSC on Registrant's owner, operator, and PIC, the Agency finds that due process notice requirements have been satisfied.

Under 21 CFR 1301.43, a registrant or applicant entitled to a hearing who fails to file a timely hearing request “within 30 days after the date of receipt of the [OSC] . . . shall be deemed to have waived their right to a hearing and to be in default” unless “good cause” is established for the failure. 21 CFR 1301.43(a), (c)(1). In the absence of a demonstration of good cause, a registrant or applicant who fails to timely file an answer also is “deemed to have waived their right to a hearing and to be in default.” 21 CFR 1301.43(c)(2).

The OSC notified Registrant of its right to file a written request for a hearing and an answer, and that if it failed to file such a request and answer, it would be deemed to have waived its right to a hearing and be in default. RFAAX 1, at 4-5 (citing 21 CFR 1301.43). Here, Registrant did not request a hearing, file an answer, or respond to the OSC in any way. RFAA, at 1-2, 4. Accordingly, Registrant is in default. 21 CFR 1301.43(c)(1).

“A default, unless excused, shall be deemed to constitute a waiver of [Registrant's] right to a hearing and an admission of the factual allegations of the [OSC].” 21 CFR 1301.43(e). Because Registrant is in default and has not moved to excuse the default, the Agency finds that Registrant has admitted to the factual allegations in the OSC. 21 CFR 1301.43(c)(1), (e), (f)(1).

Further, “[i]n the event that [a registrant] . . . is deemed to be in default . . . DEA may then file a request for final agency action with the Administrator, along with a record to support its request. In such circumstances, the Administrator may enter a default final order pursuant to [21 CFR] 1316.67.” 21 CFR 1301.43(f)(1). Here, the Government has requested final agency action based on Registrant's default pursuant to 21 CFR 1301.43(c), (f), and 1301.46. RFAA, at 1, 5; see also 21 CFR 1316.67.

III. Public Interest Determination

A. Overview of Law

Congress enacted the Controlled Substances Act (CSA) “to conquer drug abuse and control the legitimate and illegitimate traffic in controlled substances.” Gonzales v. Raich, 545 U.S. 1, 12 (2005). A particular concern of Congress was “the need to prevent the diversion of drugs from legitimate to illicit channels,” and it “devised a closed regulatory system making it unlawful to manufacture, distribute, dispense, or possess any controlled substance except in a manner authorized by the CSA.” Id. at 12-13.

The CSA's requirements under this closed regulatory system include that “every person who dispenses, or who proposes to dispense, any controlled substance, shall obtain from the [DEA] a registration.” 21 U.S.C. 822(a)(2); see also Gonzales v. Raich, 545 U.S. at 27-28. To protect the American people and ensure compliance with the CSA, Congress empowered the Agency to deny, suspend, or revoke a registration if it would be inconsistent with the public interest. 21 U.S.C. 823(g)(1), 824(a)(4); Gonzales v. Oregon, 546 U.S. 243, 251 (2006).

In determining whether a registrant's registration is inconsistent with the public interest, the Agency analyzes five statutorily established “public interest factors.” Gonzales v. Oregon, 546 U.S. at 251; 21 U.S.C. 823(g)(1)(A)-(E). The five factors are:

(A) The recommendation of the appropriate State licensing board or professional disciplinary authority.

(B) The [registrant's] experience in dispensing, or conducting research with respect to controlled substances.

(C) The [registrant's] conviction record under Federal or State laws relating to the manufacture, distribution, or dispensing of controlled substances.

(D) Compliance with applicable State, Federal, or local laws relating to controlled substances.

(E) Such other conduct which may threaten the public health and safety.

21 U.S.C. 823(g)(1)(A)-(E).

These five public interest factors are considered in the disjunctive. Gonzales v. Oregon, 546 U.S. at 292-93 (Scalia, J., dissenting) (“It is well established that these factors are to be considered in the disjunctive” (quoting In re Arora, 60 FR 4,447, 4,448 (1995))); Robert A. Leslie, M.D., 68 FR 15,227, 15,230 (2003). Each factor is weighed on a case-by-case basis. David H. Gillis, M.D., 58 FR 37,507, 37,508 (1993); see Morall v. Drug Enf't Admin., 412 F.3d 165, 181 (D.C. Cir. 2005) (describing the Agency's adjudicative process as “applying a multi-factor test through case-by-case adjudication” (quoting LeMoyne-Owen Coll. v. N.L.R.B., 357 F.3d 55, 61 (D.C. Cir. 2004))). Any one factor, or combination of factors, may be decisive, Gillis, 58 FR at 37,508, and the Agency “may give each factor the weight . . . deem[ed] appropriate in determining whether a registration should be revoked or an application for registration denied.” Morall, 412 F.3d at 185 n.2 (Henderson, J., concurring) (quoting Robert A. Smith, M.D., 70 FR 33,207, 33,208 (2007)); see also Penick Corp. v. Drug Enf't Admin., 491 F.3d 483, 490 (D.C. Cir. 2007).

Moreover, while the Agency is required to consider each of the factors, it “need not make explicit findings as to each one.” MacKay v. Drug Enf't Admin., 664 F.3d 808, 816 (10th Cir. 2011) (quoting Volkman v. U. S. Drug Enf't Admin., 567 F.3d 215, 222 (6th Cir. 2009)); Jones Total Health Care Pharmacy, LLC v. Drug Enf't Admin., 881 F.3d 823, 830 (11th Cir. 2018); Hoxie v. Drug Enf't Admin., 419 F.3d 477, 482 (6th Cir. 2005). “In short, . . . the Agency is not required to mechanically count up the factors and determine how many favor the Government and how many favor the registrant. Rather, it is an inquiry which focuses on protecting the public interest; what matters is the seriousness of the registrant's misconduct.” Jayam Krishna-Iyer, M.D., 74 FR 459, 462 (2009). Accordingly, as the Eleventh Circuit has recognized, Agency decisions have explained that findings under a single factor can support the imposition of a sanction. Jones Total Health Care Pharmacy, 881 F.3d at 830; Pharmacy Doctors Enters., Inc. v. Drug Enf't Admin., 789 Fed. Appx. 724, 729 (11th Cir. 2019).

In this matter, the Government's evidence is confined to factor D. RFAA, at 4. Evidence is considered under factor D when it reflects compliance or non-compliance with laws related to controlled substances. Kareem Hubbard, M.D., 87 FR 21156, 21162 (2022). To determine whether Registrant's registration is in the public interest, the Agency has evaluated the Government's allegations of Registrant's non-compliance with applicable federal and state laws. Specifically, the Agency has evaluated the Government's allegation that Registrant filled illegitimate controlled substance prescriptions.

The Government has the burden of proof in this proceeding, Tracy Amerson-Rivers, A.P.R.N., 90 FR 48884, 48885 n.8 (2025) (citing 21 CFR 1301.44(e)), and the Agency must make its findings based on “substantial [record] evidence.” 5 U.S.C. 556(d); see also 5 U.S.C. 706(2); 21 U.S.C. 877. If the Government meets its burden of establishing a prima facie case that Registrant's registration is not in the public interest, then the burden shifts to Registrant to rebut the Government's case. Pharmacy Doctors Enters., 789 Fed. Appx. at 729 (citing Jones Total Health Care Pharmacy, 881 F.3d at 830).

B. Public Interest Issue 1: Registrant Filled Illegitimate Prescriptions

According to the CSA's implementing regulations, a lawful controlled substance prescription is one that is “issued for a legitimate medical purpose by an individual practitioner acting in the usual course of his professional practice.” 21 CFR 1306.04(a). While the “responsibility for the proper prescribing and dispensing of controlled substances is upon the prescribing practitioner, . . . a corresponding responsibility rests with the pharmacist who fills the prescription.” Id.

To prove that a pharmacist violated his corresponding responsibility, the Government must show that the pharmacist acted with the requisite degree of scienter. See 21 CFR 1306.04(a) (“[T]he person knowingly filling [a prescription issued not in the usual course of professional treatment] . . . shall be subject to the penalties provided for violations of the provisions of law relating to controlled substances.”) (emphasis added). DEA has consistently interpreted the corresponding responsibility regulation such that “[w]hen prescriptions are clearly not issued for legitimate medical purposes, a pharmacist may not intentionally close his eyes and thereby avoid [actual] knowledge of the real purpose of the prescription.” Ralph J. Bertolino, d/b/a Ralph J. Bertolino Pharmacy, 55 FR 4729, 4730 (1990) (citations omitted); see also JM Pharmacy Group, Inc. d/b/a Pharmacia Nueva and Best Pharmacy Corp., 80 FR 28667, 28670-72 (2015) (applying the standard of willful blindness in assessing whether a pharmacist acted with the requisite scienter). Pursuant to their corresponding responsibility, pharmacists must exercise “common sense and professional judgment” when filling a prescription issued by a physician. Bertolino, 55 FR at 4730. When a pharmacist's suspicions are aroused by a red flag, the pharmacist must question the prescription and, if unable to resolve the red flag, refuse to fill the prescription. Id.; see also Med. Shoppe-Jonesborough v. Drug Enf't Admin., 300 Fed. Appx. 409, 412 (6th Cir. 2008) (“When pharmacists' suspicions are aroused as reasonable professionals, they must at least verify the prescription's propriety, and if not satisfied by the answer they must refuse to dispense.”).

Turning to the relevant state law, New Mexico regulations implement the Pharmacist Prescriptive Authority Act by establishing “minimum standards, terms and conditions for the certification, registration, practice, and supervision of pharmacist clinicians.” N.M. Admin. Code 16.19.4.17(A). New Mexico regulations further provide that “[o]nly a registered pharmacist clinician with current protocols, registered with the New Mexico medical board or the New Mexico board of osteopathic medical examiners, may exercise prescriptive authority.” Id. at 16.19.4.17(D)(1). To exercise prescriptive authority, a pharmacist clinician must submit an application, including “the supervising physicians' name and current medical license, protocol of collaborative practice and other information requested by the board.” Id. at 16.19.4.17(D)(2). “A pharmacist clinician shall perform only those services that are delineated in the protocol and are within the scope of practice of the supervising physician or alternate supervising physician(s).” Id. at 16.19.4.17(E)(1).

New Mexico regulations define a “prescriber” as “a licensed practitioner who generates a prescription order and assumes responsibility for the content of the prescription.” N.M. Admin. Code 16.19.6.7(G) (emphasis added). New Mexico regulations further define a “valid prescription” as “an order for a dangerous drug given individually for the person for whom prescribed, either directly from the prescribing practitioner to the pharmacist, or indirectly by means of a written order signed by the practitioner.” Id. at 16.19.6.23(A).

Here, the Agency finds that, in light of Registrant's default, the factual allegations in the OSC are deemed admitted. 21 CFR 1301.43(e). Accordingly, Registrant is deemed to have admitted to each of the following facts.²

² According to the CSA, “[f]indings of fact by the [DEA Administrator], if supported by substantial evidence, shall be conclusive.” 21 U.S.C. 877. Here, where Registrant is found to be in default, all the factual allegations in the OSC are deemed to be admitted. These uncontested and deemed admitted facts constitute evidence that exceeds the “substantial evidence” standard of 21 U.S.C. 877; it is unrebutted evidence.

Mr. Gallegos is Registrant's owner and PIC. RFAAX 1, at 3. Mr. Gallegos had a Pharmacist Clinician Protocol with prescriptive authority in New Mexico that identified the supervising physician as Dr. A.M.R., whose New Mexico medical license expired on July 1, 2021. RFAAX 1, at 4. Thus, by virtue of the supervising physician no longer being a licensed prescriber in New Mexico as of July 1, 2021, Mr. Gallegos did not have prescriptive authority under New Mexico law as a pharmacist clinician as of July 1, 2021. Id.; N.M. Admin. Code 16.19.6.7(G); N.M. Admin. Code 16.19.4.17(E)(1). And yet, between July 1, 2021, and July 23, 2022, Mr. Gallegos issued approximately 26 prescriptions for controlled substances without prescriptive authority, including prescriptions for dextro-amphetamine,³ dexmethylphenidate,⁴ lorazepam,⁵ alprazolam,⁶ eszopiclone,⁷ zolpidem,⁸ and tramadol.⁹ RFAAX 1, at 4. Then Registrant, through Mr. Gallegos in his capacity as PIC, filled these 26 controlled substance prescriptions, knowing that they were invalid under state law as a result of being issued by himself without prescriptive authority. Id.

³ Amphetamine is a Schedule II stimulant. 21 CFR 1308.12(d)(1); RFAAX 1, at 4.

⁴ Methylphenidate is a Schedule II stimulant. 21 CFR 1308.12(d)(4); RFAAX 1, at 4.

⁵ Lorazepam is a Schedule IV depressant. 21 CFR 1308.14(c)(33); RFAAX 1, at 4.

⁶ Alprazolam is a Schedule IV depressant. 21 CFR 1308.14(c)(2); RFAAX 1, at 4.

⁷ Zopiclone is a Schedule IV depressant. 21 CFR 1308.14(c)(59); RFAAX 1, at 4.

⁸ Zolpidem is a Schedule IV depressant. 21 CFR 1308.14(c)(58); RFAAX 1, at 4.

⁹ Tramadol is a Schedule IV narcotic. 21 CFR 1308.14(b)(3); RFAAX 1, at 4.

Therefore, the Agency finds substantial record evidence that Registrant filled 26 controlled substance prescriptions that Registrant knew were illegitimate because they were issued by a person without valid state prescriptive authority to so do. RFAAX 1, at 4; 21 CFR 1306.04(a); N.M. Admin. Code 16.19.4.17(A), (D)(1)-(2), (E)(1); N.M. Admin. Code 16.19.6.7(G), .23(A); Trinity Pharmacy II, 83 FR 7304, 7331 (2018); Wheatland Pharmacy, 78 FR 69441, 69445 (2013).

C. Public Interest Conclusion

While the Agency considered all the public interest factors of 21 U.S.C. 823(g)(1),¹⁰ its findings are relevant to factor D (compliance or non-compliance with laws related to controlled substances). 21 U.S.C. 823(g)(1); Hubbard, 87 FR at 21162. Here, the Agency found substantial record evidence that between July 1, 2021, and July 23, 2022, Registrant knowingly filled 26 prescriptions for controlled substances that were illegitimate because they were issued by a person who lacked the authority to issue them, in violation of state law. See supra Section III.B. Registrant's misconduct, therefore, constitutes violations of both federal controlled substance regulations and New Mexico state law. 21 U.S.C. 823(g)(1)(D); 21 CFR 1306.04(a); N.M. Admin. Code 16.19.4.17(A), (D)(1)-(2), (E)(1); N.M. Admin. Code 16.19.6.7(G), .23(A); Trinity Pharmacy II, 83 FR at 7331; Wheatland Pharmacy, 78 FR at 69445.

¹⁰ The lack of evidence regarding the other public interest factors is not dispositive, and weighs neither for nor against a finding that Registrant's registration is inconsistent with the public interest. See, e.g., Amerson-Rivers, 90 FR at 48886 n.10.

Accordingly, the Agency finds that after considering the factors of 21 U.S.C. 823(g)(1), the Government satisfied its prima facie burden showing that Registrant's registration is “inconsistent with the public interest.” 21 U.S.C. 824(a)(4). The Agency further finds that there is insufficient mitigating evidence to rebut the Government's prima facie case. See supra Section II. Thus, the only remaining issue is whether revocation of Registrant's registration is the appropriate sanction.

IV. Sanction

When the Agency concludes that a registrant's registration is inconsistent with the public interest, the Agency then determines the appropriate sanction, which may include revocation of the registration. 21 U.S.C. 824(a)(4); see also Pharmacy Doctors Enters., 789 Fed. Appx. at 734 (the Agency is entitled to choose a sanction); Scott Hansen, A.R.N.P., 90 FR 27,338, 27,341 (2025); Jeffrey Stein, M.D., 84 FR 46,968, 46,972-73 (2019). At this stage, the burden is on registrants to show why they can be trusted to maintain their registration. Morall, 412 F.3d at 174; Jones Total Health Care Pharmacy, 881 F.3d at 830; Garrett Howard Smith, M.D., 83 FR 18,882, 18,904 (2018). The issue of trust is necessarily a fact-dependent determination based on the circumstances presented by the individual respondent. Stein, 84 FR at 46,972; see also Jones Total Health Care Pharmacy, 881 F.3d at 833.

As past performance is the best predictor of future performance, the Agency requires that a registrant who has committed acts inconsistent with the public interest accept responsibility for those acts and demonstrate that they will not engage in future misconduct. Jones Total Health Care Pharmacy, 881 F.3d at 833; ALRA Labs, Inc. v. Drug Enf't Admin., 54 F.3d 450, 452 (7th Cir. 1995). Moreover, the Agency requires a registrant's unequivocal acceptance of responsibility. Janet S. Pettyjohn, D.O., 89 FR 82,639, 82,641 (2024); Mohammed Asgar, M.D., 83 FR 29,569, 29,573 (2018); see also Jones Total Health Care Pharmacy, 881 F.3d at 830-31.

In addition, a registrant's candor during the investigation and hearing is an important factor in determining acceptance of responsibility and the appropriate sanction. Jones Total Health Care Pharmacy, 881 F.3d at 830-31; Hoxie, 419 F.3d at 483-84. The Agency also considers the need to deter similar acts by Registrant and by the community of registrants. Stein, 84 FR at 46,972-73.

Here, Registrant failed to answer the allegations contained in the OSC and did not otherwise avail itself of the opportunity to prove to the Agency that it can be trusted to maintain its registration. See supra Section II. Thus, there is no record evidence that Registrant takes responsibility, let alone unequivocal responsibility, for the misconduct. Accordingly, it has not convinced the Agency that its future controlled-substance-related actions will comply with the CSA such that it can be entrusted with the responsibilities of a registration.

Further, the interests of specific and general deterrence weigh in favor of revocation. Registrant's conduct in this matter goes to the heart of the CSA's “closed regulatory system” specifically designed “to conquer drug abuse and to control the legitimate and illegitimate traffic in controlled substances.” Gonzales v. Raich, 545 U.S. at 12-14. If the Agency were to allow Registrant to maintain its registration under these circumstances, it would send a dangerous message that compliance with the law is not essential to maintaining a registration.

In sum, Registrant has not offered any evidence on the record that rebuts the Government's case for revocation of its registration, and Registrant has not demonstrated that it can be entrusted with the responsibility of registration. Accordingly, the Agency will order the revocation of Registrant's registration.

Order

Pursuant to 28 CFR 0.100(b) and the authority vested in me by 21 U.S.C. 824(a)(4) and 21 U.S.C. 823(g)(1), I hereby revoke DEA Certificate of Registration No. FC4167121 issued to Complete Care Pharmacy, LLC. Further, pursuant to 28 CFR 0.100(b) and the authority vested in me by 21 U.S.C. 824(a)(4) and 21 U.S.C. 823(g)(1), I hereby deny any pending applications of Complete Care Pharmacy, LLC, to renew or modify this registration, as well as any other pending application of Complete Care Pharmacy, LLC, for additional registration in New Mexico. This Order is effective February 26, 2026.

Signing Authority

This document of the Drug Enforcement Administration was signed on January 16, 2026, by Administrator Terrance C. Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2026-01498 Filed 1-26-26; 8:45 am]

BILLING CODE 4410-09-P